DEPARTMENT OF LABOR

Employment and Training Administration

[TA-W-39,039]

Fashion International A.D.M. Services, Inc. Scranton, Pennsylvania; Amended Certification Regarding Eligibility To Apply for Worker Adjustment Assistance

In accordance with section 223 of the Trade Act of 1974 (19 U.S.C. 2273) the Department Labor issued a Certification of Eligibility to Apply for Worker Adjustment Assistance on June 7, 2001, applicable to workers of Fashion International located in Scranton, Pennsylvania. The notice was published in the Federal Register on June 27, 2001 (66 FR 34256).

At the request of the company, the Department reviewed the certification for workers of the subject firm. Company information shows that worker separations occurred at A.D.M. Services, Inc. when it closed in March, 2001. A.D.M. Services provided designing services and markers supporting the production of men's sport coats and men's and ladies' blazers at Fashion International, Scranton, Pennsylvania which also closed in March, 2001. A.D.M. Services, Inc. workers were inadvertently omitted from the certification.

The intent of the Department's certification is to include all workers of Fashion International who were adversely affected by increased imports of men's sport coats and men's and ladies' blazers.

Accordingly, the Department is amending the certification to cover the workers of A.D.M. Services, Inc., Scranton, Pennsylvania.

The amended notice applicable to TA-W-39,039 is hereby issued as follows:

“All workers of Fashion International and A.D.M. Services, Inc., Scranton, Pennsylvania who became totally or partially separated from employment on or after February 24, 2001, through June 7, 2003, are eligible to apply for adjustment assistance under Section 223 of the Trade Act of 1974.”

Signed at Washington, DC this 13th day of December, 2001.
Linda G. Poole,
Certifying Officer, Division of Trade Adjustment Assistance.

[FR Doc. 01-32209 Filed 12-31-01; 8:45 am]

BILLING CODE 4510-30-M